DEPARTMENT OF AGRICULTURE

Food and Nutrition Service

Agency Information Collection Activities: Proposed Collection; Comment Request—Federal Claims Collection Methods for Food Stamp Program Recipient Claims

AGENCY: Food and Nutrition Service, USDA.

ACTION: Notice.

SUMMARY: In accordance with the Paperwork Reduction Act of 1995, this notice invites the general public and other public agencies to comment on proposed information collections. This Notice of Proposed Information Collection announces the intent of the Food and Nutrition Service to revise and extend the information collection requirements associated with initiating and conducting Federal collection actions against households with delinquent food stamp recipient debts.

DATES: Written comments must be submitted on or before July 24, 2006 to be assured consideration.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate, automated, electronic, mechanical, or other technological collection techniques or other forms of information technology.

Send comments to Jane Duffield, Chief, Payment Accuracy Branch, Food and Nutrition Service, USDA, 3101 Park Center Drive, Room 818, Alexandria, Virginia, 22302.

All comments will be summarized and included in the request for Office of Management and Budget approval of the information collection. All comments will become a matter of public record.

FOR FURTHER INFORMATION CONTACT: Leslie Byrd at (703) 305-2472.

SUPPLEMENTARY INFORMATION: Title: Federal Claims Collection Methods for Food Stamp Program Recipient Claims.

OMB Number: 0584-0446.

Form Number: None.

Expiration Date: September 30, 2006.

Type of Request: Revision of a currently approved collection.

Abstract: Section 13(b) of the Food Stamp Act of 1977, as amended (7 U.S.C. 2022(b)), and Food Stamp Program (FSP) regulations at 7 CFR 273.18 require State agencies to refer debtors for food stamp benefit over-issuance to the U.S. Department of the Treasury for collection. The Debt Collection Improvement Act of 1996, 31 U.S.C. 3701, et seq., requires these debts to be referred to Treasury for collection when they are 180 days or more delinquent. Through the Treasury Offset Program (TOP), 31 CFR Part 285, payments such as Federal income tax refunds, Federal salaries and other Federal payments payable to these delinquent debtors will be offset and the amount applied to the delinquent debt. TOP places a burden on States agencies and/or former food stamp recipients who owe delinquent debts in three areas: 60-day notices from State agencies to debtors that their debt will be referred to TOP; State-level submissions; and automated data processing (ADP).

TOP 60-Day Notice Proposed Burden

The proposed burden associated with the 60-day notice involves both the debtors and the State agencies. The 60-day notice notifies the debtor of the proposed referral to TOP and provides the right for review and appeal. The State agency prepares and mails the notices as well as responds to inquiries and appeals. The debtor, in turn, receives and reads the notice and may make an inquiry or appeal the impending action. Based on an average of the number of records for claims the States proposed to send to TOP for calendar years 2003, 2004 and 2005, we estimate that State agencies will send out and that debtors will read 291,336 notices. In addition, we estimate that the debtors will submit and State agencies will respond to about 2,900 inquiries and appeals. The total number of responses being proposed for the 60-day notice portion of the proposed burden is 588,472 respondents (291,336 notices + 2,900 follow-up inquiries and appeals times 2) per year resulting in an annual reporting and recordkeeping burden of 41,745 hours. The existing burden for activity relating to the 60-day notice is 39,549 hours based on 558,132 respondents. The net increase of 2,196 hours is due to the fact that State agencies have increased the number of debts they are adding to TOP and this is increasing the number of 60 day notices sent to debtors.

TOP State-Level Submissions

Treasury prescribes specific processes and file formats for FNS to use to send debts to TOP. FNS provides guidance and file formats to State agencies and monitors their compliance with such. State agencies must submit specified documents and/or information to FNS and FNS sends required information to Treasury. The first such document is an annual letter to FNS certifying that all of the debts submitted by the State agency to TOP are valid and legally enforceable in the amount stated. The second document certifies that Internal Revenue Service (IRS) information is safeguarded in accordance with IRS instructions. Lastly, State agencies report TOP collections on the FNS-209 Status of Claims against Households report. (The burden for the remainder of the FNS-209 report is already covered under OMB burden number 0584-0069).

FNS estimates that it will take State agencies a total of 135 hours per year for these State submissions. There is no change in the number of hours required for these reports from the previous submission.

TOP ADP Proposed Burden

The proposed burden for ADP includes weekly file processing, monthly address requests and system maintenance. Weekly and monthly file processing includes requesting addresses to use to send out 60-day notices, adding and maintaining debts in TOP, correcting errors on unprocessable records, and posting weekly collection files. Much of this activity is completed using automation and involves an estimated 1.9 million records annually. FNS estimates that this activity takes 17,017 annual reporting and recordkeeping burden hours. This is an increase of 578 hours over the previous submission because of the increased number of records.

Summary of Estimated Burden

The net aggregate change from the existing to the proposed annual burden for this entire Proposed Collection is an increase of 2,773 hours over the previous submission. For the activity relating to the 60-day notice, we are increasing the estimated annual burden for State agencies and debtors from 39,549 hours to 41,745 hours to reflect an increase in the number of notices sent to debtors. The State-level submissions portion of the reporting and recordkeeping burden is estimated to require the same number of hours as the previous submission. The annual ADP portion of this burden package is being increased from 16,439 to 17,017 hours primarily to reflect the processing associated with the additional 60 day notices and associated records.

Affected Public: State and local government, and food stamp households.

Estimated Number of Respondents: 294,236.

Number of Responses per Respondent: 6.08.

Total Number of Annual Responses: 1,790,109.

Estimated Hours per Response: 0.03.

Estimated Total Annual Burden: 58,896 hours.

Dated: May 18, 2006.
George A. Braley,
Acting Administrator, Food and Nutrition Service.

[FR Doc. E6-8036 Filed 5-24-06; 8:45 am]

BILLING CODE 3410-30-P